DEPARTMENT OF HEALTH AND HUMAN SERVICES

National Institutes of Health

Center for Scientific Review; Amended Notice of Meeting

Notice is hereby given of a change in the meeting of the Center for Scientific Review Special Emphasis Panel, July 7, 2021, 9:00 a.m. to July 8, 2021, 7:00 p.m., National Institutes of Health, Rockledge II, 6701 Rockledge Drive, Bethesda, MD 20892 which was published in the Federal Register on June 10, 2021, FR Doc 2021-12144, 86 FR 30965.

This notice is being amended to change the meeting date from July 7-8, 2021 to July 28-29, 2021. The meeting time remains the same. The meeting is closed to the public.

Dated: July 6, 2021.
Tyeshia M. Roberson-Curtis,
Program Analyst, Office of Federal Advisory Committee Policy.

[FR Doc. 2021-14738 Filed 7-9-21; 8:45 am]

BILLING CODE 4140-01-P